DEPARTMENT OF ENERGY

Federal Energy Regulatory Commission

Combined Notice of Filings

Take notice that the Commission has received the following Natural Gas Pipeline Rate and Refund Report filings:

Filings Instituting Proceedings

Docket Numbers: RP11-2453-000.

Applicants: Tennessee Gas Pipeline Company.

Description: Request of Tennessee Gas Pipeline Company for Limited Waiver for August 31, 2011 Quarterly Fuel Filing.

Filed Date: 08/26/2011.

Accession Number: 20110826-5176.

Comment Date: 5 p.m. Eastern Time on Wednesday, September 07, 2011.

Docket Numbers: RP11-2452-000.

Applicants: Carolina Gas Transmission Corporation.

Description: 2011 Penalty Revenue Sharing Filing of Carolina Gas Transmission Corporation.

Filed Date: 08/29/2011.

Accession Number: 20110829-5042.

Comment Date: 5 p.m. Eastern Time on Monday, September 12, 2011.

Docket Numbers: RP11-2454-000.

Applicants: Venice Gathering System, LLC.

Description: Venice Gathering System, LLC submits tariff filing per 154.402: 2011 ACA Surcharge Filing to be effective 10/1/2011.

Filed Date: 08/29/2011.

Accession Number: 20110829-5050.

Comment Date: 5 p.m. Eastern Time on Monday, September 12, 2011.

Docket Numbers: RP11-2455-000.

Applicants: Transcontinental Gas Pipe Line Company, LLC.

Description: Transcontinental Gas Pipe Line Company, LLC submits tariff filing per 154.402: TGPL 2011 ACA Filing to be effective 10/1/2011.

Filed Date: 08/29/2011.

Accession Number: 20110829-5064.

Comment Date: 5 p.m. Eastern Time on Monday, September 12, 2011.

Docket Numbers: RP11-2456-000.

Applicants: Empire Pipeline, Inc.

Description: Empire Pipeline, Inc. submits tariff filing per 154.204: Changes—Tioga Expansion Project to be effective 10/28/2011.

Filed Date: 08/29/2011.

Accession Number: 20110829-5121.

Comment Date: 5 p.m. Eastern Time on Monday, September 12, 2011.

Docket Numbers: RP11-2457-000.

Applicants: Colorado Interstate Gas Company.

Description: Colorado Interstate Gas Company submits tariff filing per 154.204: Raton and Settlement TSA Update to be effective 10/1/2011.

Filed Date: 08/29/2011.

Accession Number: 20110829-5136.

Comment Date: 5 p.m. Eastern Time on Monday, September 12, 2011.

Docket Numbers: RP11-2458-000.

Applicants: Gulf Crossing Pipeline Company LLC.

Description: Gulf Crossing Pipeline Company LLC submits tariff filing per 154.204: Enterprise K12-8 Amendment to Negotiated Rate Agreement Filing to be effective 9/1/2011.

Filed Date: 08/30/2011.

Accession Number: 20110830-5021.

Comment Date: 5 p.m. Eastern Time on Monday, September 12, 2011.

Docket Numbers: RP11-2459-000.

Applicants: Gulf Crossing Pipeline Company LLC.

Description: Gulf Crossing Pipeline Company LLC submits tariff filing per 154.204: Antero 3 to Tenaska 207 Capacity Release Negotiated Rate Agreement Filing to be effective 9/1/2011.

Filed Date: 08/30/2011.

Accession Number: 20110830-5022.

Comment Date: 5 p.m. Eastern Time on Monday, September 12, 2011.

Docket Numbers: RP11-2460-000.

Applicants: Gulf Crossing Pipeline Company LLC.

Description: Gulf Crossing Pipeline Company LLC submits tariff filing per 154.204: Antero 2 to Tenaska 208 Capacity Release Negotiated Rate Agreement Filing to be effective 9/1/2011.

Filed Date: 08/30/2011.

Accession Number: 20110830-5023.

Comment Date: 5 p.m. Eastern Time on Monday, September 12, 2011.

Docket Numbers: RP11-2461-000.

Applicants: Gulf South Pipeline Company, LP.

Description: Gulf South Pipeline Company, LP submits tariff filing per 154.204: Enerquest 34686 to BP Energy 39013 Capacity Release Negotiated Rate Agreement Filing to be effective 9/1/2011.

Filed Date: 08/30/2011.

Accession Number: 20110830-5029.

Comment Date: 5 p.m. Eastern Time on Monday, September 12, 2011.

Docket Numbers: RP11-2462-000.

Applicants: Gulf South Pipeline Company, LP.

Description: Gulf South Pipeline Company, LP submits tariff filing per 154.204: Devon 34694-34 Amendment to Negotiated Rate Agreement to be effective 9/1/2011.

Filed Date: 08/30/2011.

Accession Number: 20110830-5030.

Comment Date: 5 p.m. Eastern Time on Monday, September 12, 2011.

Docket Numbers: RP11-2463-000.

Applicants: Gulf South Pipeline Company, LP.

Description: Gulf South Pipeline Company, LP submits tariff filing per 154.204: HK 37731 to Texla 39034 Capacity Release Negotiated Rate Agreement Filing to be effective 9/1/2011.

Filed Date: 08/30/2011.

Accession Number: 20110830-5031.

Comment Date: 5 p.m. Eastern Time on Monday, September 12, 2011.

Docket Numbers: RP11-2464-000.

Applicants: Gulf South Pipeline Company, LP.

Description: Gulf South Pipeline Company, LP submits tariff filing per 154.204: Enbridge 34685 to Texla 39017 Capacity Release Negotiated Rate Agreement Filing to be effective 9/1/2011.

Filed Date: 08/30/2011.

Accession Number: 20110830-5032.

Comment Date: 5 p.m. Eastern Time on Monday, September 12, 2011.

Docket Numbers: RP11-2465-000.

Applicants: Gulf South Pipeline Company, LP.

Description: Gulf South Pipeline Company, LP submits tariff filing per 154.204: Enbridge 34685 to Texla 39018 Capacity Release Negotiated Rate Agreement Filing to be effective 9/1/2011.

Filed Date: 08/30/2011.

Accession Number: 20110830-5033.

Comment Date: 5 p.m. Eastern Time on Monday, September 12, 2011.

Docket Numbers: RP11-2466-000.

Applicants: Southern Star Central Gas Pipeline, Inc.

Description: Southern Star Central Gas Pipeline, Inc. submits tariff filing per 154.402: ACA Filing—Eff. October 1, 2011 to be effective 10/1/2011.

Filed Date: 08/30/2011.

Accession Number: 20110830-5036.

Comment Date: 5 p.m. Eastern Time on Monday, September 12, 2011.

Docket Numbers: RP11-2467-000.

Applicants: Kern River Gas Transmission Company.

Description: Kern River Gas Transmission Company submits tariff filing per 154.204: 2011 SoCal Non-conforming Agreement to be effective 9/1/2011.

Filed Date: 08/30/2011.

Accession Number: 20110830-5061.

Comment Date: 5 p.m. Eastern Time on Monday, September 12, 2011.

Docket Numbers: CP11-538-000.

Applicants: Dominion Transmission, Inc.

Description: Abandonment Application of Dominion Transmission, Inc.

Filed Date: 08/22/2011.

Accession Number: 20110822-5225.

Comment Date: 5 p.m. Eastern Time on Wednesday, September 7, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: August 30, 2011.
Nathaniel J. Davis, Sr.,
Deputy Secretary.

[FR Doc. 2011-22736 Filed 9-6-11; 8:45 am]

BILLING CODE 6717-01-P